DEPARTMENT OF COMMERCE

National Oceanic and Atmospheric Administration

50 CFR Part 660

[Docket No. 000927275-0275-01; I.D. 082800F]

RIN 0648-AO31

Fisheries off West Coast States and in the Western Pacific; Pacific Coast Groundfish Fishery; Amendment 12

AGENCY: National Marine Fisheries Service (NMFS), National Oceanic and Atmospheric Administration (NOAA), Commerce.

ACTION: Proposed rule; request for comments.

SUMMARY: NMFS is proposing a rule to implement portions of Amendment 12 to the Pacific Coast Groundfish Fishery Management Plan (FMP). The Pacific Fishery Management Council (Council) prepared Amendment 12 to provide procedures for developing rebuilding plans for overfished species, for setting guidelines for contents of rebuilding plans, and for sending rebuilding plans to NMFS for review and approval/disapproval. Amendment 12 would also declare all Pacific coast groundfish to be fully utilized by domestic harvesters and processors. This action would remove references to foreign and joint venture fishing in the groundfish regulations, and is intended to update the FMP and its implementing regulations to reflect the current status of the fishery.

DATES: Comments must be submitted in writing by November 20, 2000.

ADDRESSES: Send comments to Donna Darm,, Acting Administrator, Northwest Region, (Regional Administrator) NMFS, 7600 Sand Point Way NE., Seattle, WA 98115; or Rebecca Lent, Administrator, Southwest Region, NMFS, 501 West Ocean Blvd., Suite 4200, Long Beach, CA 90802-4213. Copies of Amendment 12 to the Pacific Coast Groundfish FMP, and the Environmental Assessment/Regulatory Impact Review (EA/RIR) are available from Donald McIsaac, Executive Director, Pacific Fishery Management Council, 2130 SW Fifth Avenue, Suite 224, Portland, OR 97201. Send comments regarding any ambiguity or unnecessary complexity arising from the language used in this rule to William Stelle, Jr. or Rebecca Lent.

FOR FURTHER INFORMATION CONTACT: William Robinson at: phone, 206-526-6140; fax, 206-526-6736, and email, bill.robinson@noaa.gov Svein Fougner at: phone, 562-980-4000; fax, 562-980-4047; and email, svein.fougner@noaa.gov

Electronic Access: This Federal Registerdocument is also accessible via the internet at the website of the Office of the Federal Register: <<http://www.access.gpo.gov/su-docs/aces/aces140.html.>>

SUPPLEMENTARY INFORMATION: NMFS is proposing this rule to implement the portions of Amendment 12 that declare the West Coast groundfish resource fully utilized by domestic harvesting and processing entities. Minor regulatory changes would be needed to make the regulations at 50 CFR part 660 consistent with Amendment 12. This proposed rule is based on the Council’s recommendations, under the authority of the Pacific Coast Groundfish FMP and the Magnuson Stevens Fishery Conservation and Management Act (Magnuson-Stevens Act). The background and rationale for the Council's recommendations are summarized here; further details appear in the EA/RIR prepared by the Council for Amendment 12.

Background

In September 1998, the Council adopted Amendment 11 to the FMP to make the FMP consistent with revisions to the Magnuson-Stevens Act. Among other things, Amendment 11 set control rules to define rates of “overfishing” and set defined levels at which managed stocks are considered “overfished.” Amendment 11 was approved and incorporated into the FMP in March 1999.

While implementing Amendment 11 provisions for rebuilding overfished stocks, the Council determined that it needed to set procedures within the groundfish FMP for developing overfished species rebuilding plans and for providing NMFS with the opportunity to review and approve/disapprove those plans. Amendment 12 provides a process by which the Council will develop overfished species rebuilding plans during its annual specifications and management measures process.

During the Council’s two-meeting process for setting annual specifications and management measures (usually September and November,) the Council would make overfished species rebuilding plans available for public review, and would incorporate measures to implement those plans within the annual specifications and management measures. Rebuilding plan contents are defined in the FMP and rely upon the Council’s annual stock assessment and review process. Once the Council approves a new rebuilding plan, it would submit that plan for NMFS review and approval/ disapproval, generally at the same time that it submits its annual specifications package for review and approval/ disapproval. This process would ensure that rebuilding efforts are incorporated into fishery management measures as quickly and efficiently as practicable, and that they are consistent with management measures for other groundfish species.

Procedural matters developed in Amendment 12 for overfished species rebuilding plans provide the Council with direction for future activities, are not regulatory in nature, and so do not result in any change to regulations. However, Amendment 12 also announces that the Pacific Coast groundfish resource is fully utilized by domestic harvesting and processing interests and provides an opportunity for NMFS to update its regulations to recognize this fully utilized status.

Foreign Fisheries and Pacific Coast Underutilized Groundfish Species

When the FMP was first implemented in 1982, most of the vessels were foreign and joint venture vessels and these vessels were primarily targeting Pacific whiting. In 1983, about 60 percent of the whiting optimum yield (OY) was reserved for domestic harvest, and about 3 percent of the OY was reserved for domestic processing. “Americanization” happened slowly for the Pacific whiting resource; the whiting OY was not fully utilized by domestic harvesters until 1989, and not fully utilized by domestic processors until 1991. In addition to whiting, there were minor joint venture processing opportunities for shortbelly rockfish and jack mackerel. Those species were considered fully utilized by the domestic fleet by 1992.

In 1991, Amendment 6 to the FMP created a limited entry program and specifically addressed domestic underutilization of the groundfish resource with “designated species B” permits. These permits were made available to fishing vessels that had not qualified for limited entry “A” permits, to encourage those vessels to fish specifically for Pacific whiting, jack mackerel, and shortbelly rockfish. By the time that the limited entry permit program was implemented in 1994, foreign harvest and processing of the three underutilized species were no longer an issue.

Although the West Coast groundfish fishery has been fully Americanized for almost a decade, the Council had not amended the FMP to reflect the full and expected long-term domestic utilization of the resource until Amendment 12. Amendment 12 still leaves open the possibility of future foreign harvest of West Coast groundfish should domestic utilization decline, but requires an FMP amendment to re-open the fisheries to foreign access. The primary effect of declaring the West Coast groundfish resource fully utilized by domestic fisheries would be to modestly reduce NMFS’ and Council’s workload associated with the annual specifications and management measures process.

Regulatory changes to implement Amendment 12 would simply remove references within the regulations at 50 CFR 660 to foreign and joint venture fishing. These changes would have neither biological nor socio-economic effects on the environment.

Classification

At this time, NMFS has not determined whether Amendment 12 that this rule would implement is consistent with the national standards of the Magnuson-Stevens Act and other applicable laws. NMFS, in making that determination, will take into account the data, views, and comments received during the comment period.

This proposed rule has been determined to be not significant for purposes of Executive Order 12866.

The Chief Counsel for Regulation of the Department of Commerce certified to the Chief Counsel for Advocacy of the Small Business Administration that this proposed rule, if adopted, would not have a significant economic impact on a substantial number of small entities. The full effect of this proposed rule would be to remove outdated regulatory language at 50 CFR 660 that refers to foreign and joint venture fishing. There have been no foreign or joint venture fisheries for West Coast groundfish since 1992. These regulatory changes would have no effect on any U.S. businesses, small or otherwise. As a result, a regulatory flexibility analysis was not prepared.

The President has directed Federal agencies to use plain language in their communications with the public, including regulations. To comply with this directive, we seek public comment on any ambiguity or unnecessary complexity arising from the language used in this rule (see ADDRESSES).

List of Subjects in 50 CFR Part 660

Administrative practice and procedure, American Samoa, Fisheries, Fishing, Guam, Hawaiian Natives, Indians, Northern Mariana Islands, Reporting and recordkeeping requirements.

Dated: October 3, 2000.
Penelope D. Dalton,
Assistant Administrator for Fisheries, National Marine Fisheries Service.

For the reasons set out in the preamble, 50 CFR part 660 is proposed to be amended as follows:

PART 660—FISHERIES OFF WEST COAST STATES AND IN THE WESTERN PACIFIC

l. The authority citation for part 660 continues to read as follows:

Authority: 16 U.S.C. 1801 et seq.

2. In § 660.302, the definitions for “Reserve” and “Specification” are revised to read as follows:

§ 660.302 Definitions.

* * * * *

Reserve means a portion of the harvest guideline or quota set aside at the beginning of the year to allow for uncertainties in preseason estimates.

* * * * *

Specification is a numerical or descriptive designation of a management objective, including, but not limited to: ABC; optimum yield; harvest guideline; quota; limited entry or open access allocation; a set aside or allocation for a recreational or treaty Indian fishery; an apportionment of the above to an area, gear, season, fishery, or other subdivision.

* * * * *

3. In § 660.303, paragraph (a) is revised to read as follows:

§ 660.303 Reporting and recordkeeping.

(a) This subpart recognizes that catch and effort data necessary for implementing the PCGFMP are collected by the States of Washington, Oregon, and California under existing state data collection requirements. Telephone surveys of the domestic industry may be conducted by NMFS to determine amounts of whiting that may be available for reallocation under 50 CFR 660.323 (a)(4(v). No Federal reports are required of fishermen or processors, so long as the data collection and reporting systems operated by state agencies continue to provide NMFS with statistical information adequate for management.

* * * * *

[FR Doc. 00-25777 Filed 10-5-00; 8:45 am]

BILLING CODE 3510-22-S